DEPARTMENT OF JUSTICE

Antitrust Division

Notice Pursuant to The National Cooperative Research and Production Act of 1993—IMS Global Learning Consortium, Inc.

Notice is hereby given that, on July 22, 2021, pursuant to Section 6(a) of the National Cooperative Research and Production Act of 1993, 15 U.S.C. 4301 et seq. (“the Act”), IMS Global Learning Consortium, Inc. (“IMS Global”) has filed written notifications simultaneously with the Attorney General and the Federal Trade Commission disclosing changes in its membership. The notifications were filed for the purpose of extending the Act's provisions limiting the recovery of antitrust plaintiffs to actual damages under specified circumstances. Specifically, Bowdoin College, Brunswick, ME; Campus EDU, Marion, IN; ClassGather, La Vergne, TN; Columbia County School District, Evans, GA; CoreFour, Richmond, CANADA; Early Learning Quick Assessment (ELQA), Moore, OK; Edge Factor Inc., Beamsville, CANADA; Education Advanced, Inc., Tyler, TX; Georgia Institute of Technology, Atlanta, GA; Hypothesis.is, San Francisco, CA; North Carolina Department of Public Instruction, Raleigh, NC; Revisely BV, Breda, NETHERLANDS; RIC One, Rye Brook, NY; Texas Education Agency, Austin, TX; University of Minnesota, Minneapolis, MN; VidGrid, Schaumburg, IL; Washington County Public Schools, Hagerstown, PA; and Weld North Education, Scottsdale, AZ, have been added as parties to this venture.

Also, DegreeData, Brownsville, TX; Austin Independent School District, Austin, TX; University of Kentucky, Lexington, KY; Sakai/Tsugi, Ann Arbor, MI; College voor Toetsen en Examens, Den Haag, ED, NETHERLANDS; Alief Independent School District, Houston, TX; and New Mexico Dept of Ed, Ruidoso, NM, have withdrawn as parties to this venture.

No other changes have been made in either the membership or planned activity of the group research project. Membership in this group research project remains open, and IMS Global intends to file additional written notifications disclosing all changes in membership.

On April 7, 2000, IMS Global filed its original notification pursuant to Section 6(a) of the Act. The Department of Justice published a notice in the Federal Register pursuant to Section 6(b) of the Act on September 13, 2000 (65 FR 55283).

The last notification was filed with the Department on May 3, 2021. A notice was published in the Federal Register pursuant to Section 6(b) of the Act on May 25, 2021 (86 FR 28148).

Suzanne Morris,
Chief, Premerger and Division Statistics, Antitrust Division.

[FR Doc. 2021-18034 Filed 8-20-21; 8:45 am]

BILLING CODE P